FEDERAL COMMUNICATIONS COMMISSION

47 CFR Part 64

[CG Docket Nos. 10-51 and 03-123; FCC 11-62]

Structure and Practices of the Video Relay Service Program; Telecommunications Relay Services and Speech-to-Speech Services for Individuals With Hearing and Speech Disabilities

AGENCY: Federal Communications Commission.

ACTION: Proposed rule.

SUMMARY: In this document, the Commission tentatively concludes that it will extend the current video relay service (VRS) rates for the upcoming fund year. The Commission is considering various options for reforming the VRS industry, and therefore proposes to maintain the current rates until new VRS rules are adopted. The intended effect of this action is to ensure stability and certainty for VRS while the Commission continues to evaluate the issues and the substantial record developed in response to the reform proceeding.

DATES: Comments are due on or before May 16, 2011. Reply comments are due on or before May 23, 2011.

ADDRESSES: Interested parties may submit comments identified by [CG Docket Nos. 10-51 and 03-123 and/or FCC 11-62], by any of the following methods:

• Electronic Filers: Comments may be filed electronically using the Internet by accessing the Commission's Electronic Comment Filing System (ECFS), through the Commission's Web site http://fjallfoss.fcc.gov/ecfs2/. Filers should follow the instructions provided on the Web site for submitting comments. For ECFS filers, in completing the transmittal screen, filers should include their full name, U.S. Postal service mailing address, and CG Docket Nos. 10-51 and 03-123. Parties also may submit an electronic comment by Internet e-mail. To get filing instructions, filers should send an e-mail to ecfs@fcc.gov, and include the following words in the body of the message, “get form <your e-mail address.” A sample form and directions will be sent in response.

• Paper filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th St., SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street, SW., Washington, DC 20554.

In addition, parties must serve one copy of each pleading with the Commission's duplicating contractor, Best Copy and Printing, Inc., 445 12th Street, SW., Room CY-B402, Washington, DC 20554, or via e-mail to fcc@bcpiweb.com.

FOR FURTHER INFORMATION CONTACT: Diane Mason, Consumer and Governmental Affairs Bureau at (202) 418-7126, or e-mail: Diane.Mason@fcc.gov.

SUPPLEMENTARY INFORMATION: This is a synopsis of the Commission's Structure and Practices of the Video Relay Service Program; Telecommunications Relay Services and Speech-to-Speech Services for Individuals with Hearing and Speech Disabilities, Notice of Proposed Rulemaking (NPRM), document FCC 11-62, adopted April 14, 2011, and released April 15, 2011, in CG Docket Nos. 10-51 and 03-123, seeking comment on a proposal to extend the current VRS rates and further comment on VRS reform. The full text of FCC 11-62 and copies of any subsequently filed documents in this matter will be available for public inspection and copying during regular business hours at the FCC Reference Information Center, Portals II, 445 12th Street, SW., Room CY-A257, Washington, DC 20554. FCC 11-62 and copies of subsequently filed documents in this matter may also be purchased from the Commission's duplicating contractor at Portals II, 445 12th Street, SW., Room CY-B402, Washington, DC 20554. Customers may contact the Commission's duplicating contractor at its Web site, http://www.bcpiweb.com, or by calling 1-800-378-3160. FCC 11-62 can also be downloaded in Word or Portable Document Format (PDF) at: http://www.fcc.gov/cgb/dro/trs.html#orders.

Pursuant to 47 CFR 1.415 and 1.419, interested parties may file comments and reply comments on or before the dates indicated in the DATES section of this document. Comments and reply comments must include a short and concise summary of the substantive discussion and questions raised in the document FCC 11-62. The Commission further directs all interested parties to include the name of the filing party and the date of the filing on each page of their comments and reply comments. Comments and reply comments must otherwise comply with 47 CFR 1.48 and all other applicable sections of the Commission's rules.

Pursuant to 47 CFR 1.1200 et seq., this matter shall be treated as a “permit-but-disclose” proceeding in accordance with the Commission's ex parte rules. Persons making oral ex parte presentations are reminded that memoranda summarizing the presentations must contain summaries of the substances of the presentations and not merely a listing of the subjects discussed. More than a one or two sentence description of the views and arguments presented is generally required. Other rules pertaining to oral and written ex parte presentations in permit-but-disclose proceedings are set forth in 47 CFR 1.1206(b).

People with Disabilities: To request materials in accessible formats for people with disabilities (Braille, large print, electronic files, audio format), send an e-mail to fcc504@fcc.gov or call the Consumer and Governmental Affairs Bureau at (202) 418-0530 (voice), (202) 418-0432 (TTY).

Initial Paperwork Reduction Act Of 1995 Analysis

Document FCC 11-62 seeks comment on a potential new or revised information collection requirement or may result in a new or revised information collection requirement. If the Commission adopts any new or revised information collection requirement, the Commission will publish a separate notice in the Federal Register inviting the public to comment on the requirement, as mandated by the Paperwork Reduction Act of 1995. See Public Law 104-13 (44 U.S.C. 3501 et seq.). In addition, pursuant to the Small Business Paperwork Relief Act of 2002, the Commission will seek specific comment from the public on how it might “further reduce the information collection burden for small business concerns with fewer than 25 employees, see Public Law 107-198; 47 U.S.C. 3506(c)(4).”

Synopsis

1. In document FCC 11-62, the Commission seeks further comment on VRS market structure and compensation method proposals related to the structure and practices of the VRS program initially raised in Structure and Practices of the Video Relay Service Program, CG Docket No. 10-51, Notice of Inquiry, published at 75 FR 41863, July 19, 2010 (2010 VRS NOI). For example, the Commission seeks comment on specific proposals for VRS accounting. The Commission also seeks comment on how to treat certain costs and expenses. Commenters should address whether the Commission should limit or exclude the expenses of raising capital from VRS rates in general, or whether individual providers should not receive some or all compensation for the costs incurred in various methods of raising capital. Similarly, the Commission invites comment on the proper regulatory treatment of various methods used by providers to raise capital, including appropriate disclosure and approval requirements that may be implemented.

2. In addition, in the event that the Commission is unable to finalize the compensation structure for VRS in time to calculate a new rate for the Fund year beginning July 1, 2011, the Commission tentatively concludes that extending the current interim rates and compensation structure for VRS to the 2011-12 Fund year would be appropriate. The current interim rates have resulted in significant savings for the Fund, demand for VRS has remained stable during the 2010-11 Fund year, and data submitted to the Fund administrator demonstrate that no VRS provider has failed to meet speed of answer requirements under the interim rates. The Commission also recognizes the certainty and stability that the current compensation structure can offer until final rules in the 2010 VRS NOI proceeding are implemented. The Commission seeks comment on this tentative conclusion.

Initial Regulatory Flexibility Certification

3. The Regulatory Flexibility Act of 1980, as amended (RFA), requires that an initial regulatory flexibility analysis be prepared for notice-and-comment rule making proceedings, unless the agency certifies that “the rule will not, if promulgated, have a significant economic impact on a substantial number of small entities.” 5 U.S.C. 605(b). The RFA generally defines the term “small entity” as having the same meaning as the terms “small business,” “small organization,” and “small governmental jurisdiction.” 5 U.S.C. 601(6). In addition, the term “small business” has the same meaning as the term “small business concern” under the Small Business Act. 5 U.S.C. 601(3). A “small business concern” is one which: (1) is independently owned and operated; (2) is not dominant in its field of operation; and (3) satisfies any additional criteria established by the Small Business Administration (SBA). 15 U.S.C. 632.

4. In document FCC 11-62, the Commission seeks comment on the rates and compensation for VRS for the 2011-12 Interstate Telecommunications Relay Services (TRS) Fund (Fund) year. Specifically, the Commission seeks further comment on VRS market structure and compensation method proposals initially raised in a 2010 VRS NOI related to the structure and practices of the VRS program. In addition, in the event the Commission is unable to fully resolve the issues raised in the 2010 VRS NOI prior to the beginning of the 2011-12 Fund year, the Commission seeks comment on its tentative conclusion that extending the current interim rates and compensation structure provides the best means to ensure stability and certainty for VRS while the Commission continues to evaluate the issues and the substantial record developed in response to this proceeding.

5. The Commission's proposed action is to extend the current 2010-2011 rates for VRS for the upcoming 2011-2012 Fund year. The Commission concludes that this proposal will not impose a financial burden on entities, including small businesses, because these entities will continue to be promptly reimbursed from the Interstate TRS Fund at the same rate at which they are currently compensated.

6. Therefore, the Commission certifies that the proposal in document FCC 11-62 if adopted, would not have a significant economic impact on a substantial number of small entities.

The Commission will send a copy of document FCC 11-62, including a copy of this Initial Regulatory Flexibility Certification, to the Chief Counsel for Advocacy of the SBA.

Ordering Clauses

7. Pursuant to sections 4(i)-(j), 225, and 303(r) of the Communications Act of 1934, as amended, 47 U.S.C. 154(i)-(j), 225, and 303(r), document FCC 11-62 is adopted.

8. The Commission's Consumer and Governmental Affairs Bureau, Reference Information Center, shall send a copy of document FCC 11-62, including the Initial Regulatory Flexibility Analysis, to the Chief Counsel for Advocacy of the Small Business Administration.

Federal Communications Commission
Marlene H. Dortch,
Secretary.

[FR Doc. 2011-10613 Filed 4-29-11; 8:45 am]

BILLING CODE 6712-01-P